NATIONAL SCIENCE FOUNDATION

Agency Information Collection Activities: Notice of Intent To Reinstate Information Collection

AGENCY: National Science Foundation.

ACTION: Notice.

SUMMARY: The National Science Foundation (NSF) is announcing plans to reinstate this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by May 9, 2023 to be assured consideration. Comments received after that date will be considered to the extent practicable. Send comments to address below.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Survey of Science and Engineering Research Facilities.

OMB Control Number: 3145-0101.

Expiration Date of Current Approval: Not applicable.

Type of Request: Intent to seek approval to reinstate an information collection for three years.

Abstract: Established within NSF by the America COMPETES Reauthorization Act of 2010 § 505, codified in the NSF Act of 1950, as amended, NCSES—one of 13 principal federal statistical agencies—serves as a central Federal clearinghouse for the collection, interpretation, analysis, and dissemination of objective data on science, engineering, technology, and research and development for use by practitioners, researchers, policymakers, and the public.

The Survey of Science and Engineering Research Facilities is a Congressionally mandated (Pub. L. 99-159), biennial census that has been conducted since 1986. The survey collects data on the amount, condition, costs, and funding of the physical facilities used to conduct science and engineering research at U.S. academic institutions. Congress expected that this survey would provide the data necessary to describe the status and needs of science and engineering research facilities and would help formulate appropriate solutions to documented needs. During the FY 2019 and FY 2021 survey cycles, data were collected from a population of approximately 585 research-performing universities. Data are collected through a Web-based interface, although institutions have the option of printing and completing a PDF that can be sent by mail.

Use of the Information: The proposed project will continue the biennial survey for two cycles: FY 2023 and FY 2025. The Survey of Science and Engineering Research Facilities will provide continuity of statistics on the status of scientific and engineering research facilities and capabilities. Statistics on the square footage of research and development (R&D) space available, the condition of R&D space, and the costs for new construction, repairs, and renovation of R&D space at higher education institutions by science and engineering R&D field are produced from the survey. The sources of funding for new construction and repair and renovation projects are also published. The information can be used by Federal policy makers, planners, and budget analysts in making policy decisions, as well as by institutional academic officials, the scientific/engineering establishment, and state agencies and legislatures that fund universities.

Data are published in NCSES's biennial publication series Survey of Science and Engineering Research Facilities, available on the web at http://www.nsf.gov/statistics/srvyfacilities/.

Expected Respondents: The Facilities Survey is a census of institutions that performed at least $1 million in separately accounted for science and engineering research and development in the previous fiscal year.

In the most recent FY 2021 Facilities Survey, a census of 584 academic institutions was conducted. The sampling frame used for the survey was the FY 2020 Higher Education Research and Development Survey conducted by the National Center for Science and Engineering Statistics.

Estimate of Burden: The Facilities Survey will be sent to approximately 600 academic institutions for both the FY 2023 and FY 2025 data collection cycles. Response to this voluntary survey is typically 97 percent each cycle. The average burden estimate is 19 hours per academic institution based on completion time estimates provided by all survey participants in the FY 2013 survey. The expected estimated burden per survey cycle is 11,400 hours (600 institutions × 19 hours to complete). The total estimated burden is 22,800 for both years combined.

Burden Estimate for the FY 2023 and FY 2025 Surveys
Year | Respondents | Average response time (hours) | Total burden (hours)
2023 | 600 | 19 | 11,400
2025 | 600 | 19 | 11,400
Total Burden | 1,200 |  | 22,800

Dated: March 6, 2023.
Suzanne H. Plimpton,
Reports Clearance Officer, National Science Foundation.

[FR Doc. 2023-04881 Filed 3-9-23; 8:45 am]

BILLING CODE 7555-01-P